DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2018 Survey of Income and Program Participation (SIPP) Panel.

OMB Control Number: 0607-XXXX.

Form Number(s):

SIPP-105(L1)2018 (Advance Director's Letter—No Incentive)

SIPP-105(L)(SP)2018 (Advance Director's Letter Spanish- No Incentive)

SIPP-105(L3)2018 (Advance Director's Letter—$40 Incentive)

SIPP-101 (Factsheet)

SIPP-106(L1)2018 (Thank You Letter—No Incentive)

SIPP-106(L2)2018 (Thank You Letter—$40 Incentive/PIN Information)

Type of Request: OMB Approval.

Number of Respondents: 66,800.

Average Hours per Response: 1 hour.

Burden Hours: 66,800.

Needs and Uses: The SIPP is a household-based survey designed as a continuous series of national panels. The SIPP represents a source of information for a wide variety of topics and allows the integration of information for separate topics to form a single, unified database allowing for the examination of the interaction between tax, transfer, and other government and private policies. Government domestic policy formulators depend heavily upon SIPP information concerning the distribution of income received either directly as money or indirectly as in-kind benefits and the effect of tax and transfer programs on that distribution. They also need improved and expanded data on the income and general economic and financial situation of the U.S. population, which the SIPP has provided on a continuing basis since 1983. The SIPP has measured levels of economic well-being and permitted measurement of changes in these levels over time.

The 2018 SIPP interview includes a portion conducted using an Event History Calendar (EHC) that facilitates the collection of dates of events and spells of coverage. The EHC assists the respondent's ability to recall events accurately over the one year reference period and provides increased data quality and inter-topic consistency for dates reported by respondents. The EHC is intended to help respondents recall information in a more natural “autobiographical” manner by using life events as triggers to recall other economic events. The EHC was previously used in the 2014 Panel. The 2018 Panel SIPP design does not contain freestanding topical modules; however, a portion of traditional SIPP topical module content is integrated into the 2018 SIPP Panel interview. Examples of this content include questions on medical expenses, child care, retirement and pension plan coverage, marital history, adult and child well-being, and others.

Affected Public: Respondents, researchers, policymakers.

Frequency: The 2018 SIPP Panel is an annual survey that runs for four years consecutively (Waves 1-4).

Respondent's Obligation: Voluntary.

Legal Authority: Title 13, United States Code, Sections 141 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-20976 Filed 9-29-17; 8:45 am]

BILLING CODE 3510-07-P